DEPARTMENT OF THE TREASURY

Submission for OMB Review; Comment Request

February 12, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW. Washington, DC 20220.

Dates: Written comments should be received on or before March 23, 2009 to be assured of consideration.

Internal Revenue Service (IRS)

OMB Number: 1545-2130.

Type of Review: Extension.

Title: Form 8927—Determination Under Section 860(e)(4) by a Qualified Investment Entity.

Form: 8927.

Description: The American Jobs Creation Act of 2004 (AJCA) expanded the meaning of the term “determination” to include self-determinations made by a regulated investment company (RIC) or a real estate investment trust (REIT). IRC section 860(g) provides that no deficiency dividend deduction shall be allowed under IRC section 860(a) unless a claim is filed within 120 days after the date of the determination. Form 8927 is used by the RIC or REIT to establish the date of determination under IRC section 860(e) (4).

Respondents: Individuals or Households.

Estimated Total Burden Hours: 140 hours.

Clearance Officer: Glenn P. Kirkland (202) 622-3428, Internal Revenue Service, Room 6516, 1111 Constitution Avenue, NW., Washington, DC 20224.

OMB Reviewer: Shagufta Ahmed (202) 395-7873, Office of Management and Budget, Room 10235, New Executive Office Building, Washington, DC 20503.

Celina Elphage,
Treasury PRA Clearance Officer.

[FR Doc. E9-3471 Filed 2-18-09; 8:45 am]

BILLING CODE 4830-01-P